DEPARTMENT OF COMMERCE

National Oceanic and Atmospheric Administration

RIN 0648-XG361

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a public hearing via webinar to solicit public comments on Amendment 13—Spiny Lobster for Management in the Gulf of Mexico.

DATES: The webinar will convene on Thursday, August 2, 2018, from 6 p.m. to 9 p.m., EDT. The webinar will begin at 6 p.m. and will conclude no later than 9 p.m.

ADDRESSES: The public hearing will be held via webinar. Council address: Gulf of Mexico Fishery Management Council, 4701 W Spruce Street, Suite 200, Tampa, FL 33607; telephone: (813) 348-1630.

FOR FURTHER INFORMATION CONTACT: Dr. Morgan Kilgour, Fishery Biologist, Gulf of Mexico Fishery Management Council; morgan.kilgour@gulfcouncil.org, telephone: (813) 348-1630.

SUPPLEMENTARY INFORMATION: The agenda for the following webinar is as follows: Council staff will brief the public on the purpose and need of the amendment. The Council is currently considering aligning federal regulations in the EEZ off Florida with those of the state of Florida and creating an enhanced cooperative management procedure with Florida for federal waters off Florida. Council staff will also provide an overview of the actions and alternatives considered in the amendment including the Council preferred alternatives. Staff and a Council member will be available to answer any questions and the public will have the opportunity to provide testimony on the amendment and other related testimony. The schedule is as follows:

Tuesday, August 2, 2018; Webinar 6 p.m.—9 p.m. EST at: https://register.gotowebinar.com/register/552356550647070721.

After registering, you will receive a confirmation email containing information about joining the webinar.

—Meeting Adjourns

The public hearing will be broadcast via webinar. You may also register for the webinar by visiting www.gulfcouncil.org and clicking on the Public Hearing meeting on the calendar.

Special Accommodations

This meeting is physically accessible to people with disabilities. Requests for sign language interpretation or other auxiliary aids should be directed to Kathy Pereira at the Gulf Council Office (see ADDRESSES), at least 5 working days prior to the meeting.

Dated: July 16, 2018.
Tracey L. Thompson,
Acting Deputy Director, Office of Sustainable Fisheries, National Marine Fisheries Service.

[FR Doc. 2018-15467 Filed 7-18-18; 8:45 am]

BILLING CODE 3510-22-P